DEPARTMENT OF ENERGY

Federal Energy Regulatory Commission

Notice of Commission Staff Attendance

The Federal Energy Regulatory Commission (Commission) hereby gives notice that members of the Commission's staff will attend the following meeting related to the Midcontinent Independent System Operator, Inc. (MISO)—PJM Interconnection, L.L.C. (PJM) Joint and Common Market Initiative (Docket No. AD14-3-000):

MISO/PJM Joint Stakeholder Meeting—February 28, 2017

The above-referenced meeting will be held at: PJM Valley Forge Campus, Conference and Training Center, 2750 Monroe Blvd., Audubon, PA 19403.

The above-referenced meeting is open to the public.

Further information may be found at www.pjm.com.

The discussions at the meeting described above may address matters at issue in the following proceedings:

Docket No. EL13-88, Northern Indiana Public Service Company v. Midcontinent Independent System Operator, Inc. and PJM Interconnection, L.L.C.

Docket No. ER10-1791, Midwest Independent Transmission System Operator, Inc.

Docket Nos. ER13-1937, ER13-1939, Southwest Power Pool, Inc.

Docket No. ER14-1736, Midcontinent Independent System Operator, Inc.

Docket Nos. EL15-99, EL16-12, Internal MISO Generation v. Midcontinent Independent System Operator, Inc.

Docket No. ER17-718, PJM Interconnection, L.L.C.

Docket No. ER17-721, Midcontinent Independent System Operator, Inc.

Docket No. ER17-729, PJM Interconnection, L.L.C.

Docket No. ER17-934, PJM Interconnection, L.L.C. and Midcontinent Independent System Operator, Inc.

Docket Nos. EL16-108, EL17-29, Midcontinent Independent System Operator, Inc.

Docket Nos. EL17-31, EL17-37, PJM Interconnection, L.L.C.

For more information, contact Bahaa Seireg, Office of Energy Policy and Innovation, Federal Energy Regulatory Commission at (202) 502-8739 or Bahaa.Seireg@ferc.gov.

Dated: February 27, 2017.
Kimberly D. Bose,
Secretary.

[FR Doc. 2017-04304 Filed 3-3-17; 8:45 am]

BILLING CODE 6717-01-P